DEPARTMENT OF LABOR

Employment and Training Administration

[NAFTA-05755]

Delphi Automotive Systems Corporation, Delphi Delco Electronics Division, Body and Security Team, Oak Creek, WI; Notice of Negative Determination Regarding Application for Reconsideration

By application dated May 10, 2002, petitioners requested administrative reconsideration of the Department's negative determination regarding eligibility to apply for North American Free Trade Agreement—Transitional Adjustment Assistance (NAFTA—TAA), applicable to workers and former workers of the subject firm. The denial notice was signed on April 16, 2002, and was published in the Federal Register on May 2, 2002 (67 FR 22115).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The denial of NAFTA-TAA for workers performing engineering design work at Delphi Automotive Systems Corporation, Delphi Electronics Division, Body and Security Team, Oak Creek, Wisconsin was based on the finding that the workers do not produce an article as required for certification under Section 250(a) of the Trade Act of 1974, as amended.

The petitioners allege that the workers produce a product (prototypes) and that work performed by the subject firm workers was shifted to Mexico.

Review of the investigation shows that subject workers were engaged in engineering design work. Workers at the subject site were also engaged in minor modifications of prototypes that were built at another affiliated domestic facility and then transferred to the subject plant. The engineering design work was shifted to Mexico, no functions relating to minor modifications to the prototypes were shifted to Mexico. The Mexican site is strictly engineering focused, no prototype production is being performed there. The engineering design activities that were shifted to Mexico are service functions only. No subject plant production was shifted to Mexico. Therefore, the workers at the subject firm do not meet the eligibility requirements under section 250 of the Trade Act of 1974.

Conclusion

After review of the application and investigative findings, I conclude that there has been no error or misinterpretation of the law or of the facts which would justify reconsideration of the Department of Labor's prior decisions. Accordingly, the application is denied.

Signed at Washington, DC, this 18th day of June, 2002.
Edward A. Tomchick,
Director, Division of Trade Adjustment Assistance.

[FR Doc. 02-18421 Filed 7-19-02; 8:45 am]

BILLING CODE 4510-30-P